DEPARTMENT OF TRANSPORTATION

Federal Aviation Administration

Aviation Rulemaking Advisory Committee; Aircraft Certification Procedures Issues Meeting

AGENCY: Federal Aviation Administration (FAA), DOT.

ACTION: Notice of public meeting.

SUMMARY: This notice announces a public meeting of the Federal Aviation Administration's Aviation Rulemaking Advisory Committee to discuss Aircraft Certification Procedures issues.

DATES: The meeting will be held on March 21, 2002, from 8:30 a.m. to 11:30 a.m. Arrange for oral presentations by March 15,2002.

ADDRESSES: The meeting will be held at the General Aviation Manufacturers Association, 1400 K Street, NW., Suite 801, Washington, DC 20005-2485.

FOR FURTHER INFORMATION CONTACT: Maisa Mullen, FAA, Office of Rulemaking (ARM-205), 800 Independence Avenue, SW., Washington, DC 20591; telephone: (202) 267-7653, fax: (202) 267-5075.

SUPPLEMENTARY INFORMATION: Pursuant to section 10(a)(2) of the Federal Advisory Committee Act (Pub. L. 92-463; 5 U.S.C. App. II), notice is hereby given of a meeting of the Aviation Rulemaking Advisory Committee to be held on March 212, 2002, from 8:30 a.m. to 11:30 a.m. at the General Aviation Manufacturers Association, 1400 K Street, NW., Suite 801, Washington, DC 20005-2485. The agenda will include:

1. Opening Remarks.

2. Committee Administration.

3. A discussion and vote on the Parts and Production Certification Working Group draft advisory documents, entitled “Means of Compliance with Proposed Quality System Requirements,” “Recommendation for Consistent Application of ODAR Processes for PAH Shipments,” “PAH Transition to New Quality System Requirements,” and “ARAC Working Group Advisory Circular Proposal.”

4. A status report on the Parts and Production Certification Working Group's remaining tasks.

5. A status report on the FAA submitted rulemaking projects for “Establishment of Organization Designation Authorization (ODA) Procedures”, and “Production Certification and Parts Manufacturing.”

6. A discussion of future meeting dates, locations, activities, and plans.

Attendance is open to the interested public, but will be limited to the space available. The FAA will arrange teleconference capability for individuals wishing to participate by teleconference if we receive notification before March 15,2002. Arrangements to participate by teleconference can be made by contacting the person listed in the FOR FURTHER INFORMATION CONTACT section. Callers outside the Washington metropolitan area will be responsible for paying long distance charges.

The public must make arrangements by March 15,2002, to present oral statements at the meeting. The public may present written statements to the committee at any time by providing 25 copies to the Assistant Executive Director, or by bringing the copies to the meeting. Public statements will only be considered if time permits. In addition, sign and oral interpretation, as well as an assistive listening device, can be made available at the meeting, if requested 10 calendar days before the meeting. Arrangements may be made by contacting the person listed under the heading FOR FURTHER INFORMATION CONTACT.

Issued in Washington, DC, on March 6, 2002.
Tony Fazio,
Executive Director, Aviation Rulemaking Advisory Committee.

[FR Doc. 02-5789 Filed 3-6-02; 8:45 am]

BILLING CODE 4910-13-M